DEPARTMENT OF JUSTICE

Notice of Lodging of Proposed Settlement Agreement Under the Federal Debt Collection Procedures Act, Comprehensive Environmental Response, Compensation and Liability Act, the Resource Conservation and Recovery Act, and Other Statutes

On April 3, 2014, the Department of Justice lodged a proposed settlement agreement (the “Settlement Agreement”) with the United States Bankruptcy Court for the Southern District of New York in the matter entitled Tronox Inc., et al., and United States v. Anadarko Petroleum Corp., et al., Bankruptcy Adversary Proceeding No. 09-1198. This matter is part of the bankruptcy case of Tronox Inc. and its affiliates (collectively “Tronox”), In re Tronox Inc., et al., No. 09-10156, in the same court.

The parties to the proposed Settlement Agreement are Anadarko Petroleum Corp., Kerr McGee Corporation, and six related entities (the “Defendants”), the United States, and the Anadarko Litigation Trust. The Settlement Agreement provides for $5.15 billion dollars plus interest to be paid to the Anadarko Litigation Trust. These proceeds will then be distributed to the United States, certain environmental response trusts, a tort claims trust, and certain state and tribal governments as provided by the Plan of Reorganization, Litigation Trust Agreement, Environmental Settlement Agreement, and other documents (collectively, the “Bankruptcy Documents”) previously approved by the bankruptcy court in Tronox's bankruptcy.

The Settlement Agreement resolves fraudulent conveyance claims brought by the United States and the Anadarko Litigation Trust against Defendants. As part of the Settlement Agreements, Defendants will receive covenants not to sue from the United States under various statutes, including the Federal Debt Collection Procedures Act, the Comprehensive Environmental Response Compensation, and Liability Act and Resource Conservation and Recovery Act, and for common law claims derivative of Tronox's claims against Defendants, all as and to the extent specified in the Settlement Agreement.

Pursuant to this Settlement Agreement and the Bankruptcy Documents, portions of the Defendants' payment under the Settlement Agreement will fund clean-up or pay for past or future environmental costs or natural resource damages at numerous sites around the county. Among the sites at issue are the following:

The Mobile Pigment Complex, Mobile, AL

The former Petroleum Terminal Site, Birmingham, AL

The Jacksonville AgChem Site, Jacksonville, FL

The former titanium dioxide plant in Savannah, GA

The Soda Springs Vanadium Plant, Soda Springs, ID

The Kress Creek and Residential Areas Sites, W. Chicago, IL

The Rare Earths Facility, W. Chicago, IL

The Lindsay Light Thorium Sites, Chicago, IL

The former wood treating facility, Madison, IL

The former wood treating facility, Indianapolis, IN

The former wood treating facility, Bossier City, LA

The Calhoun Gas Plant Site, Calhoun, LA

The Fireworks Site, Hanover, MA

The former wood treating facility, Kansas City, MO

The former wood treating facility, Springfield, MO

The former wood treating facility, Columbus, MS

The former wood treating facility, Hattiesburg, MS

The Navassa wood treating Site, Wilmington, NC

The former Federal Creosote facility, Manville, NJ

The Welsbach Gas and Mantle Site, Camden, NJ

The Henderson Facility, Henderson, NV

The former wood treating facility, Rome, NY

The Toledo Tie Site, Toledo, OH

The former nuclear fuels facility, Cimarron, OK

The Cleveland Refinery Site, Cleveland, OK

The Cushing Refinery Sites, Cushing, OK

The White King/Lucky Lass mine site, Lakeview, OR

The former wood treating facility, Avoca, PA

The Corpus Christi Petrol Terminal Site, CC, TX

The former wood treating facility, Texarkana, TX

The Riley Pass Mine Site, Harding County, SD

More than 50 former uranium mines and mills, including Shiprock, Churchrock, and Ambrosia Lake on and in the vicinity of Navajo Nation, NM, AZ

The former Moss American Site, Milwaukee, WI

More than 1800 current and former service stations in twenty-four states.

The publication of this notice opens a period for public comment on the Settlement Agreement. Comments should be addressed to the Assistant Attorney General, Environment and Natural Resources Division, and should refer to Tronox and United States v. Anadarko Petroleum Corp., D.J. Ref. No. 90-11-3-09688. All comments must be submitted no later than thirty (30) days after the publication date of this notice. Comments may be submitted either by email or by mail:

To submit comments: | Send them to:
By email | pubcomment-ees.enrd@usdoj.gov.
By mail | Assistant Attorney General; U.S. DOJ—ENRD; P.O. Box 7611; Washington, DC 20044-7611.

Under section 7003(d) of RCRA, a commenter may request an opportunity for a public meeting in the affected area.

During the public comment period, the Settlement Agreement may be examined and downloaded at a Justice Department Web site: http://www.usdoj.gov/enrd/Consent_Decrees.html. We will provide a paper copy of the Settlement Agreement upon written request and payment of reproduction costs. Please mail your request and payment to: Consent Decree Library, U.S. DOJ—ENRD, P.O. Box 7611, Washington, DC 20044-7611.

Please enclose a check or money order for $32.00 (25 cents per page reproduction cost) payable to the United States Treasury. For a paper copy without exhibits or notice of lodging, the cost is $14.75.

Robert E. Maher Jr.,
Assistant Section Chief, Environmental Enforcement Section, Environment and Natural Resources Division.

[FR Doc. 2014-08324 Filed 4-11-14; 8:45 am]

BILLING CODE 4410-15-P